DEPARTMENT OF HEALTH AND HUMAN SERVICES

Health Resources and Services Administration

Fiscal Year 2003 Application Cycle for the Nursing Scholarship Program CFDA 93.908

AGENCY: Health Resources and Services Administration, HHS.

ACTION: Extension of time for application deadline.

SUMMARY: This notice extends the time that applications will be accepted for fiscal year 2003 for the Nursing Scholarship Program. A May 6, 2003 Federal Register Notice (68 FR 24006) announced that applications for the Nursing Scholarship Program must be received, or postmarked, on or before June 30, 2003. For individuals who requested a Nursing Scholarship Program application before June 30, 2003, the deadline for receipt of an application has been extended to July 14, 2003. These applications must be received by the Nursing Scholarship Program, c/o I.Q. Solutions, 11300 Rockville Pike, Suite 801, Rockville, Maryland 20852, on or before July 14, 2003.

FOR FURTHER INFORMATION CONTACT: Capt. Bruce Baggett, Division of National Health Service Corps, Bureau of Health Professions, Room 8A-55, Parklawn Building, 5600 Fishers Lane, Rockville, Maryland 20857; 1-800-435-6464 (bbaggett@hrsa.gov).

Dated: July 7, 2003.
Elizabeth M. Duke,
Administrator.

[FR Doc. 03-17587 Filed 7-8-03; 11:59 am]

BILLING CODE 4165-15-P